DEPARTMENT OF STATE

Office of the Secretary

[Public Notice 4366]

Amendment of the Restriction on the Use of United States Passports for Travel To, In or Through Iraq

By means of Public Notice 4337 of April 16, 2003 (68 FR 18722), certain amendments were made to the restriction set forth in Public Notice 4283 of February 25, 2003 (68 FR 8791) on the use of U.S. passports for travel to, in, or through Iraq.

The security situation in Iraq remains unstable and consular services are not currently available to U.S. citizens there. Nevertheless, it is in the U.S. national interest to continue to facilitate the humanitarian and reconstructive activities taking place in Iraq. Therefore, pursuant to the authorities set forth in 22 U.S.C. 211a, Executive Order 11295, and 22 CFR 51.73, I have decided to broaden further the exemptions from the restriction on the use of U.S. passports for travel to, in, or through Iraq.

Accordingly, Public Notice 4337 of April 16, 2003, which amended Public Notice 4283, of February 25, 2003, is hereby amended by deleting the penultimate paragraph (beginning with “Accordingly”) and replacing it with the following:

“Accordingly, United States passports shall continue to be invalid for travel to, in, or through Iraq unless specifically validated for such travel under the authority of the Secretary of State. This restriction on the validity of U.S. passports for travel to, in or through Iraq shall not apply to U.S. passports held by (1) persons resident in Iraq since February 1, 1991; (2) professional reporters and journalists on assignment there; (3) persons conducting humanitarian activities, as defined in 31 CFR Section 575.330; (4) persons conducting activities within the scope of a U.S. Government contract or grant, including employees of subcontractors and other persons hired to conduct such activities; (5) personnel of the United Nations and its agencies; or (6) U.S. Government personnel on official U.S. Government assignment in Iraq, including Members of Congress and their staffs on official business there.”

This Public Notice amending Public Notice Number 4337 is effective May 9, 2003, and shall expire at midnight on February 25, 2004, unless sooner extended or revoked by public notice.

Dated: May 9, 2003.
Colin L. Powell,
Secretary of State, Department of State.

[FR Doc. 03-12296 Filed 5-14-03; 8:45 am]

BILLING CODE 4710-10-P